DEPARTMENT OF JUSTICE

Antitrust Division

Notice Pursuant to the National Cooperative Research and Production Act of 1993—Cooperative Research Group on Particle Sensor Performance and Durability

Notice is hereby given that, on May 23, 2012, pursuant to Section 6(a) of the National Cooperative Research and Production Act of 1993, 15 U.S.C. 4301 et seq. (“the Act”), Southwest Research Institute—Cooperative Research Group on Particle Sensor Performance and Durability (“PSPD”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Caterpillar, Inc., Peoria, IL; Electricfil Automotive, Miribel Cedex, FRANCE; MTU Friedrichshafen GMBH, Friedrichshafen, GERMANY; Emisense Technologies, LLC, San Juan Capistrano, CA; NGK Spark Plug Co., Ltd., Nagoya, JAPAN; Isuzu Manufacturing Services of America, Inc., Plymouth, MI; and Navistar, Inc., Melrose Park, IL. The general area of PSPD's planned activity is to critically investigate the performance and durability of various particle sensor technologies on a diesel engine platform. State-of-the-art laboratory particle equipment will be employed for this investigation. PSPD will capitalize on its know-how and experience in this area to provide an impartial evaluation that all participants can benefit from. The program will run over a two-year period.

Patricia A. Brink,
Director of Civil Enforcement, Antitrust Division.

[FR Doc. 2012-14769 Filed 6-15-12; 8:45 am]

BILLING CODE 4410-11-P